DEPARTMENT OF ENERGY

National Coal Council

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Friday, March 18, 2011 9 a.m. to 12 p.m.

ADDRESSES: Westin Georgetown, 2350 M Street, NW., Washington, DC 20037.

FOR FURTHER INFORMATION CONTACT: Michael J. Ducker, U.S. Department of Energy; 4G-036/Forrestal Building, 1000 Independence Avenue, SW., Washington, DC 20585-1290; Telephone: (202) 586-7810.

SUPPLEMENTARY INFORMATION: Purpose of Meeting: To conduct an open meeting of the NCC and to provide a presentation on the new study conducted by the Council on the deployment of carbon capture and storage technologies.

Agenda:

• Welcome and call to order by NCC Chair Joe Hopf.

• Remarks by Secretary Steven Chu, Department of Energy.

• Council Business:

○ Finance report by Committee Chairman Joe Hopf.

• Presentation by Coal Policy Committee Chairman Frank Blake on the findings and recommendations in the new NCC Report.

• Presentation by Mike Howard, President and CEO of Electric Power Research Institute (EPRI).

• Presentation by Tom Grahame of the Department of Energy on the impacts of black carbon in the atmosphere.

• Other Business.

• Adjourn.

Public Participation: The meeting is open to the public. If you would like to file a written statement with the Committee, you may do so either before or after the meeting. If you would like to make oral statements regarding any potential items on the agenda, you should contact Michael J. Ducker by telephone at (202) 586-7810 or Michael.Ducker@HQ.DOE.GOV (e-mail). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/.

Issued at Washington, DC, on February 15, 2011.
LaTanya Butler,
Acting Deputy Committee Management Officer.

[FR Doc. 2011-3847 Filed 2-18-11; 8:45 am]

BILLING CODE 6450-01-P